DEPARTMENT OF THE INTERIOR

Bureau of Ocean Energy Management

[MMAA104000]

Environmental Documents Prepared for Oil, Gas, and Mineral Operations by the Gulf of Mexico Outer Continental Shelf (OCS) Region

AGENCY: Bureau of Ocean Energy Management (BOEM), Interior.

ACTION: Notice of the availability of environmental documents prepared for OCS mineral proposals by the Gulf of Mexico OCS Region.

SUMMARY: BOEM, in accordance with Federal regulations that implement the National Environmental Policy Act (NEPA), announces the availability of NEPA-related Site-Specific Environmental Assessments (SEAs) and Findings of No Significant Impact (FONSIs). These documents were prepared during the period July 1, 2013, through September 30, 2013, for oil, gas, and mineral-related activities that were proposed in the Gulf of Mexico, and are more specifically described in the Supplementary Information Section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of the proposed activities and any alternatives and present BOEM conclusions regarding the significance of those effects. SEAs are used as a basis for determining whether or not approval of the proposal constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents required under the NEPA regulations.

Activity/operator | Location | Date
Chevron U.S.A. Inc., Exploration Plan, SEA R-5894 | Central Planning Ares of the Gulf of Mexico | 7/5/2013
CSA Ocean Sciences, Inc., Geological & Geophysical Survey, SEA L13-021 | Central Planning Area of the Gulf of Mexico | 7/8/2013
Noble Energy, Inc., Exploration Plan, SEA N-9714 | Mississippi Canyon, Block 782, Lease OCS-G 33755 & OCS-G 33757, located 74 miles from the nearest Louisiana shoreline | 7/8/2013
LLOG Exploration Offshore, L.L.C., Exploration Plan, SEA R-5900 | Mississippi Canyon, Block 208, Lease OCS-G 24055, located 46 miles from the nearest Louisiana shoreline | 7/9/2013
Stone Energy Corporation, Development Operations Coordination Document, SEA S-7609 | Mississippi Canyon, Block 29, Lease OCS-G 13997, located 31 miles from the nearest shoreline in Plaquemines Parish, Louisiana | 7/10/2013
CSA Ocean Services, Inc., Geological & Geophysical Survey, SEA T13-003 | Western Planning Area of the Gulf of Mexico | 7/10/2013
ATP Oil & Gas Corporation, Structure Removal, SEA ES/SR 2013-093 | Brazos, Block 544, Lease OCS-G 10226, located 31 miles from the nearest Texas shoreline | 7/11/2013
Plains Exploration & Production Company, Geological & Geophysical Survey, SEA L13-022 | Central Planning Area of the Gulf of Mexico | 7/11/2013
Anadarko Petroleum Corporation, Exploration Plan, SEA R-5895 | East Breaks, Block 645, Lease OCS-G 32822, located 118 miles from the nearest Texas shoreline | 7/11/2013
Century Exploration New Orleans, LLC, Structure Removal, SEA ES/SR 2013-126 | West Cameron, Block 540, Lease OCS-G15110, located 95 miles from the nearest Louisiana shoreline | 7/11/2013
Mariner Energy Resources, Inc., Structure Removal, SEA ES/SR 13-098 | Eugene Island, Block 273, Lease OCS-G 00987, located 59 miles from the nearest Louisiana shoreline | 7/12/2013
Chevron U.S.A. Inc., Exploration Plan, SEA N-9704 | Keathley Canyon, Block 953, Lease OCS-G 27770, located 229 miles from the nearest Louisiana shoreline | 7/12/2013
Hall-Houston Exploration III, L.P., Structure Removal, SEA ES/SR 13-128 | Galveston, Block A40, Lease OCS-G 26487, located 39 miles from the nearest Texas shoreline | 7/15/2013
McMoRan Oil & Gas LLC, Structure Removal, SEA ES/SR 13-145 | Eugene Island, Block 26, Lease OCS-G 27904, located 11 miles from the nearest Louisiana shoreline | 7/16/2013
Mariner Energy Resources, Inc., Structure Removal, SEA ES/SR 13-099 | Eugene Island, Block 284, Lease OCS-G 00991, located 60 miles from the nearest Louisiana shoreline | 7/17/2013
Murphy Exploration & Production Company—USA, Exploration Plan, SEA N-9697 | Mississippi Canyon, Block 692, Lease OCS-G 34455, located 63 miles from the nearest Louisiana shoreline | 7/17/2013
Stone Energy Corporation, Structure Removal, SEA ES/SR 13-147 | Ship Shoal, Block 134, Lease OCS-G 22701, located 20 miles from the nearest Louisiana shoreline | 7/17/2013
EPL Oil & Gas, Inc., Structure Removal, SEA ES/SR 13-139, 142, 143, 144, & 09-198 | West Cameron, Block 28, Leases OCS-G 00694 and 00353, located 3-4 miles from the nearest Louisiana shoreline | 7/19/2013
Shell Offshore Inc., Exploration Plan, SEA S-7608 | Green Canyon, Block 200, Lease OCS-G 12209, located 88 miles from the nearest shoreline in Terrebonne Parish, Louisiana | 7/22/2013
Cobalt International Energy, L.P., Exploration Plan, SEA R-5902 | Keathley Canyon, Block 163, Lease OCS-G 32606, located 177 miles from the nearest Louisiana shoreline | 7/22/2013
ConocoPhillips Company, Exploration Plan, SEA N-9725 | Mississippi Canyon, Block 118, Lease OCS-G 27994, located 38 miles from the nearest Louisiana shoreline | 7/22/2013
Stone Energy Corporation, Structure Removal, SEA ES/SR 13-148 | Ship Shoal, Block 135, Lease OCS-G 22702, located 19 miles from the nearest Louisiana shoreline | 7/22/2013
Stone Energy Corporation, Structure Removal, SEA ES/SR 13-141 | South Marsh Island, Block 108, Lease OCS-G 00792, located 70 miles from the nearest Louisiana shoreline | 7/22/2013
Stone Energy Corporation, Structure Removal, SEA ES/SR 13-146 | Ship Shoal, Block 134, Lease OCS-G 2270, located 20 miles from the nearest Louisiana shoreline | 7/23/2013
W & T Offshore, Inc., Structure Removal, SEA ES/SR 06-138 | Ship Shoal, Block 148, Lease OCS-G 11983, located 26 miles from the nearest Louisiana shoreline | 7/24/2013
Global Geophysical Services, Inc., Geological & Geophysical Survey, SEA L13-009 | Central Planning Area of the Gulf of Mexico | 7/25/2013
EPL Oil & Gas, Inc., Structure Removal, SEA ES/SR 13-149 | South Pass A, Block 28, Lease OCS-G 00353, located 4 miles from the nearest Louisiana shoreline | 7/25/2013
Petrobas America Inc., Exploration Plan, SEA R-5923 | Walker Ridge, Block 425, Lease OCS-G 16987, located 172 miles from the nearest Louisiana shoreline | 7/29/2013
Murphy Exploration & Production Company—USA, Exploration Plan, SEA N-9708 | De Soto Canyon, Block 178, Lease OCS-G 25850, located 75 miles from the nearest Louisiana shoreline | 8/1/2013
Noble Energy, Inc., Exploration Plan, SEA R-5919 | Mississippi Canyon, Block 782, Lease OCS-G 33757, located 74 miles from the nearest Louisiana shoreline | 8/5/2013
Exxon Mobil Corporation, Exploration Plan, SEA R-5940 | Walker Ridge, Block 282, Lease OCS-G 33364, located 162 miles from the nearest Louisiana shoreline | 8/6/2013
Stone Energy Corporation, Structure Removal, SEA ES/SR 13-151 | Eugene Island, Block 243, Lease OCS-G 02899, located 55 miles from the nearest Louisiana shoreline | 8/8/2013
Merit Energy Company, LLC, Structure Removal, SEA ES/SR 04-116 | High Island, Block A270, Lease OCS-G 26556, located 83 miles from the nearest Louisiana shoreline | 8/8/2013
Merit Energy Company, LLC, Structure Removal, SEA ES/SR 04-117 | High Island, Block A270, Lease OCS-G 26556, located 83 miles from the nearest Louisiana shoreline | 8/8/2013
Walter Oil & Gas Corporation, Structure Removal, SEA ES/SR 13-150 | South Timbalier, Block 220, Lease OCS-G 24980, located 55 miles from the nearest Louisiana shoreline | 8/8/2013
Statoil USA E&P Inc., Exploration Plan, SEA S-7610 | Atwater Valley, Block 64, Lease OCS-G 28104, located south of Venice, Louisiana, 76 miles from the nearest Louisiana shoreline | 8/12/2013
Apache Corporation, Structure Removal, SEA ES/SR 13-102 | Mustang Island, Block A 121, Lease OCS-G 04699, located 47 miles from the nearest Texas shoreline | 8/12/2013
Apache Corporation, Structure Removal, SEA ES/SR 13-103 | Mustang Island, Block A111, Lease OCS-G 03068, located 46 miles from the nearest Texas shoreline | 8/13/2013
Stone Energy Corporation, Structure Removal, SEA ES/SR 13-021 & 13-023 | Vermilion, Block 255, Lease OCS-G 01152, located 68 miles from the nearest Louisiana shoreline | 8/14/2013
Chevron U.S.A. Inc., Geological & Geophysical Survey, SEA L13-025 | Walker Ridge, located 176 miles from the nearest shoreline | 8/14/2013
Murphy Exploration & Production Company—USA, Exploration Plan, SEA N-9687 | Mississippi Canyon, Blocks 600 & 601, Lease OCS-G 34449 & 34450, located 53 miles from the nearest Louisiana shoreline | 8/15/2013
Black Elk Energy Offshore Operations, LLC, Structure Removal, SEA ES/SR 13 | High Island, Block A283, Lease OCS-G 02404, located 82 miles from the nearest Texas shoreline | 8/16/2013
BP Exploration & Production Inc., Exploration Plan, SEA R-5944 | Keathley Canyon, Block 93, Lease OCS-G 25780, located 172 miles from the nearest Louisiana shoreline | 8/19/2013
Shell Offshore Inc., Exploration Plan, SEA R-5954 | Mississippi Canyon, Block 721, Lease OCS-G 33171, located 51 miles from the nearest Louisiana shoreline | 8/19/2013
Apache Deepwater LLC, Exploration Plan, SEA R-5953 | Mississippi Canyon, Block 983, Lease OCS-G 34468, located 66 miles from the nearest Louisiana shoreline | 8/19/2013
Stone Energy Corporation, Structure Removal, SEA ES/SR 13-022 | South Marsh Island, Block 108, Lease OCS-G 00792, located 70 miles from the nearest Louisiana shoreline | 8/19/2013
EPL Oil & Gas, Inc., Structure Removal, SEA ES/SR 13-154 | South Pass, Block 28, Lease OCS-G 00353, located 4 miles from the nearest Louisiana shoreline | 8/19/2013
Shell Offshore Inc., Exploration Plan, SEA N-9727 | Mississippi Canyon, Blocks 768 and 812, Lease OCS-G 34458 & 34461, located 56 miles from the nearest shoreline in Plaquemines Parish, Louisiana | 8/23/2013
Dynamic Data Services Inc., Geological & Geophysical Survey, SEA L13-024 | Central Planning Area of the Gulf of Mexico, located 80 miles from the nearest shoreline | 8/26/2013
Anadarko Petroleum Corporation, Exploration Plan, SEA S-7615 | East Breaks, Block 646, Lease OCS-G 20725, located 117 miles from the nearest Texas shoreline | 8/27/2013
Gulf Ocean Services, Inc., Geological & Geophysical Survey, SEA L13-028 | Eugene Island Area, Central Planning Area of the Gulf of Mexico, located 35 miles from the nearest shoreline | 8/27/2013
Exxon Mobil Corporation, Development Operations Coordination Document, SEA N-9699 | Walker Ridge, Block 584, Lease OCS-G 20351, located 185 miles from the nearest Louisiana shoreline | 8/27/2013
Shell Offshore Inc., Development Operations Coordination Document, SEA R-5873 | Mississippi Canyon, Block 809, Lease OCS-G 05868 & Block 810, Lease OCS-G 09873, located 53 miles from the nearest Louisiana shoreline | 8/29/2013
Stone Energy Corporation, Structure Removal, SEA ES/SR 98-078 | Eugene Island, Block 243, Lease OCS-G 02899, located 56 miles from the nearest Louisiana shoreline | 9/5/2013
Hall-Houston Exploration III, L.P., Structure Removal, SEA ES/SR 13-158 | High Island, Block 88, Lease OCS-G 33408, located 41 miles from the nearest Texas shoreline | 9/12/2013
Hall-Houston Exploration III, L.P., Structure Removal, SEA ES/SR 13-157 | West Cameron, Block 431, Lease OCS-G 10584, located 65 miles from the nearest Louisiana shoreline | 9/16/2013
Chevron U.S.A. Inc., Structure Removal, SEA ES/SR 13-156 | West Cameron, Block 18, Lease OCS-G 21530, located 3 miles from the nearest Louisiana shoreline | 9/17/2013
Shell Offshore Inc., Exploration Plan, SEA S-7621 | Mississippi Canyon Block 809, Lease OCS-G 05868, located 55 miles from the nearest Louisiana shoreline | 9/20/2013
Apache Corporation, Structure Removal, SEA ES/SR 13-107 | Eugene Island, Block 273, Lease OCS-G 00987, located 56 miles from the nearest Louisiana shoreline | 9/24/2013
Apache Corporation, Structure Removal, SEA ES/SR 13-106 | Eugene Island, Block 273, Lease OCS-G 00987, located 58 miles from the nearest Louisiana shoreline | 9/25/2013
Fairfield Nodal, Geological & Geophysical Survey, SEA L13-023 | Central Planning Area of the Gulf of Mexico | 9/26/2013
Fairfield Nodal, Geological & Geophysical Survey, SEA L13-027 | Central Planning Area of the Gulf of Mexico | 9/26/2013
Apache Deepwater LLC, Exploration Plan, SEA R-5906 | Central Planning Area, located 112 miles from the nearest shoreline in Terrebonne Parish, Louisiana | 9/27/2013
Walter Oil & Gas Corporation, Development Operations Coordination Document, SEA N-9688 | Ewing Bank, Block 834, Lease OCS- G27982, located 62 miles from the nearest shoreline in Plaquemines Parish, Louisiana | 9/27/2013
Anadarko Petroleum Corporation, Exploration Plan, SEA S-7623 | Green Canyon, Block 683, Lease OCS-G 18421, located 122 miles from the nearest Louisiana shoreline | 9/27/2013
EPL Oil & Gas, Inc., Structure Removal, SEA ES/SR 13-155 | South Pass, Block 28, Lease OCS-G 00353, located 13 miles from the nearest Louisiana shoreline | 9/27/2013
Stone Energy Corporation, Structure Removal, SEA ES/SR 13-160 | South Timbalier. Block 164, Lease OCS-G 1250, located 45 miles from the nearest Louisiana shoreline | 9/27/2013

Persons interested in reviewing environmental documents for the proposals listed above or obtaining information about the SEAs and FONSIs prepared by the Gulf of Mexico OCS Region are encouraged to contact BOEM at the address or telephone listed in the FOR FURTHER INFORMATION CONTACT section.

Dated: November 4, 2013.
John L. Rodi,
Regional Director, Gulf of Mexico OCS Region.

[FR Doc. 2013-28728 Filed 11-29-13; 8:45 am]

BILLING CODE 4310-MR-P